DEPARTMENT OF LABOR

Occupational Safety and Health Administration

[Docket No. OSHA-2009-0025]

Underwriters Laboratories, Inc.: Grant of Expansion of Recognition and Modification to the Nationally Recognized Testing Laboratory (NRTL) Program's List of Appropriate Test Standards

AGENCY: Occupational Safety and Health Administration (OSHA), Labor.

ACTION: Notice.

SUMMARY: In this notice, OSHA announces the final decision to expand the scope of recognition for Underwriters Laboratories, Inc., (UL) as a NRTL to include 26 additional test standards. In addition, OSHA announces the addition of 22 test standards to the NRTL Program's List of Appropriate Test Standards.

DATES: The expansion of the scope of recognition becomes applicable on September 28, 2018.

FOR FURTHER INFORMATION CONTACT: Information regarding this notice is available from the following sources:

Press inquiries: Contact Mr. Frank Meilinger, Director, OSHA Office of Communications, U.S. Department of Labor, telephone: (202) 693-1999; email: meilinger.francis2@dol.gov.

General and technical information: Contact Mr. Kevin Robinson, Director, Office of Technical Programs and Coordination Activities, Directorate of Technical Support and Emergency Management, Occupational Safety and Health Administration, U.S. Department of Labor, phone: (202) 693-2110 or email: robinson.kevin@dol.gov. OSHA's web page includes information about the NRTL Program (see http://www.osha.gov/dts/otpca/nrtl/index.html).

SUPPLEMENTARY INFORMATION:

I. Notice of Final Decision

OSHA hereby gives notice of the expansion of the scope of recognition of Underwriters Laboratories, Inc., as a NRTL. UL's expansion covers the addition of 26 test standards to its scope of recognition.

OSHA recognition of a NRTL signifies that the organization meets the requirements specified by 29 CFR 1910.7. Recognition is an acknowledgment that the organization can perform independent safety testing and certification of the specific products covered within the scope of recognition and is not a delegation or grant of government authority. As a result of recognition, employers may use products properly approved by the NRTL to meet OSHA standards that require testing and certification of the products.

The agency processes applications by a NRTL for initial recognition, or for expansion or renewal of this recognition, following requirements in Appendix A to 29 CFR 1910.7. This appendix requires the Agency publish two notices in the Federal Register in processing an application. In the first notice, OSHA announces the application and provides a preliminary finding and, in the second notice, the Agency provides the final decision on the application. These notices set forth the NRTL's scope of recognition or modifications of that scope. OSHA maintains an informational web page for each NRTL that details its scope of recognition. These pages are available from the agency's website at http://www.osha.gov/dts/otpca/nrtl/index.html.

UL submitted an application, dated May 31, 2017, (OSHA-2009-0025-0020) to expand its recognition to include 26 additional test standards. This application was updated on November 1, 2017, (OSHA-2009-0025-0021) to include an additional standard, for a total of 27 standards. OSHA determined that one of the standards requested in UL's application, UL 2703, “Standard for Mounting System, Mounting Devices, Clamping/Retention Devices, and Ground Lugs for Use with Flat-Plate Photovoltaic Modules and Panels,” does not meet the requirements for an appropriate test standard in 29 CFR 1910.7; indeed, this standard is not included on the NRTL Program's List of Appropriate Test Standards. The types of products covered by UL 2703 do not fit into any of the categories covered by OSHA's NRTL Program. Specifically, the standard covers mechanical products, while OSHA's NRTL Program addresses mainly electrical end products. Accordingly, OSHA declines to add UL 2703 to the NRTL Program's List of Appropriate Test Standards and rejects UL's application to add the standard to its scope of recognition. OSHA staff performed a detailed analysis of the application packet and reviewed other pertinent information. OSHA did not perform any on-site reviews in relation to this application.

OSHA published the preliminary notice announcing UL's expansion application in the Federal Register on April 20, 2018, (83 FR 17568). The agency requested comments by May 7, 2018, but it received no timely comments in response to this notice. OSHA is now proceeding with this final notice to grant expansion of UL's scope of recognition.

To obtain or review copies of all public documents pertaining to UL's application, go to http://www.regulations.gov or contact the Docket Office, Occupational Safety and Health Administration, U.S. Department of Labor, 200 Constitution Avenue NW, Room N-3653, Washington, DC 20210. Docket No. OSHA-2009-0025 contains all materials in the record concerning UL's recognition.

II. Final Decision and Order

OSHA staff examined UL's expansion application, capability to meet the requirements of the test standards, and other pertinent information. Based on a review of this evidence, OSHA finds that UL meets the requirements of 29 CFR 1910.7 for expansion of its recognition, subject to the specified limitation and conditions listed below. OSHA, therefore, is proceeding with this final notice to grant UL's scope of recognition. OSHA limits the expansion of UL's recognition to testing and certification of products for demonstration of conformance to the test standards listed, below in Table 1.

Table 1—List of Appropriate Test Standards for Inclusion in UL's NRTL Scope of Recognition
Test standard | Test standard title
TIA 4950 * | Requirements for Battery-Powered, Portable Land Mobile Radio Applications in Class I, II, and III, Division 1, Hazardous (Classified) Locations.
UL 25A * | Standard for Meters for Gasoline and Gasoline/Ethanol Blends with Nominal Ethanol Concentrations up to 85 Percent (E0-E85).
UL 25B * | Meters for Diesel Fuel, Biodiesel Fuel, Diesel/Biodiesel Blends with Nominal Biodiesel Concentrations up to 20 Percent (B20), Kerosene, and Fuel Oil.
UL 79A * | Standard for Power-Operated Pumps for Gasoline and Gasoline/Ethanol Blends with Nominal Ethanol Concentrations up to 85 Percent (E0-E85).
UL 79B * | Standard for Power-Operated Pumps for Diesel Fuel, Biodiesel Fuel, Diesel/Biodiesel Blends with Nominal Biodiesel Concentrations up to 20 Percent (B20), Kerosene, and Fuel Oil.
UL 87A * | Standard for Power-Operated Dispensing Devices for Gasoline and Gasoline/Ethanol Blends with Nominal Ethanol Concentrations up to 85 Percent (E0-E85).
UL 87B * | Power-Operated Dispensing Devices for Diesel Fuel, Biodiesel Fuel, Diesel/Biodiesel Blends with Nominal Biodiesel Concentrations up to 20 Percent (B20), Kerosene, and Fuel Oil.
UL 486F * | Bare and Covered Ferrules.
UL 567A * | Standard for Emergency Breakaway Fittings, Swivel Connectors and Pipe-Connection Fittings for Gasoline and Gasoline/Ethanol Blends with Nominal Ethanol Concentrations up to 85 Percent (E0-E85).
UL 567B * | Standard for Emergency Breakaway Fittings, Swivel Connectors and Pipe-Connection Fittings for Diesel Fuel, Biodiesel Fuel, Diesel/Biodiesel Blends with Nominal Biodiesel Concentrations up to 20 Percent (B20), Kerosene, and Fuel Oil.
UL 842A * | Standard for Valves for Gasoline and Gasoline/Ethanol Blends with Nominal Ethanol Concentrations up to 85 Percent (E0-E85).
UL 842B * | Standard for Valves for Diesel Fuel, Biodiesel Fuel, Diesel/Biodiesel Blends with Nominal Biodiesel Concentrations up to 20 Percent (B20), Kerosene, and Fuel Oil.
UL 962 | Standard for Household and Commercial Furnishings.
UL 1973 * | Standard for Batteries for Use in Stationary, Vehicle Auxiliary Power and Light Electric Rail (LER) Applications.
UL 2054 * | Standard for Household and Commercial Batteries.
UL 2271 * | Standard for Batteries for Use in Light Electric Vehicle (LEV) Applications.
UL 2586A * | Standard for Hose Nozzle Valves for Gasoline and Gasoline/Ethanol Blends with Nominal Ethanol Concentrations up to 85 Percent (E0-E85).
UL 2586B * | Standard for Hose Nozzle Valves for Diesel Fuel, Biodiesel Fuel, Diesel/Biodiesel Blends with Nominal Biodiesel Concentrations up to 20 Percent (B20), Kerosene, and Fuel Oil.
UL 2594 | Standard for Electric Vehicle Supply Equipment.
UL 2775 * | Standard for Fixed Condensed Aerosol Extinguishing System Units.
UL 4703 * | Standard for Photovoltaic Wire.
UL 8753 * | Standard for Field-Replaceable Light Emitting Diode (LED) Light Engines.
UL 60335-2-24 | Household and Similar Electric Appliances—Safety—Part 2-24: Particular Requirements for Refrigerating Appliances, Ice-Cream Appliances and Ice-Makers.
UL 60730-2-5 * | Automatic Electrical Controls for Household and Similar Use, Part 2-5: Particular Requirements for Automatic Electrical Burner Control Systems.
UL 60947-5-1 * | Low-Voltage Switchgear and Controlgear—Part 5-1: Control Circuit Devices and Switching Elements—Electromechanical Control Circuit Devices.
UL 62109-1 | Standard for Safety of Power Converters for Use in Photovoltaic Power Systems—Part 1: General Requirements.
* Represents the standards that OSHA will add to the NRTL Program's List of Appropriate Test Standards

In this notice, OSHA also announces the addition of 22 new test standards to the NRTL Program's List of Appropriate Test Standards. Table 2, below, lists the test standards that are new to the NRTL Program. OSHA has determined that these test standards are appropriate test standards and will include them in the NRTL Program's List of Appropriate Test Standards.

Table 2—Test Standards OSHA Is Adding to the NRTL Program's List of Appropriate Test Standards
Test standard | Test standard title
TIA 4950 | Requirements for Battery-Powered, Portable Land Mobile Radio Applications in Class I, II, and III, Division 1, Hazardous (Classified) Locations.
UL 25A | Standard for Meters for Gasoline and Gasoline/Ethanol Blends with Nominal Ethanol Concentrations up to 85 Percent (E0-E85).
UL 25B | Meters for Diesel Fuel, Biodiesel Fuel, Diesel/Biodiesel Blends with Nominal Biodiesel Concentrations up to 20 Percent (B20), Kerosene, and Fuel Oil.
UL 79A | Standard for Power-Operated Pumps for Gasoline and Gasoline/Ethanol Blends with Nominal Ethanol Concentrations up to 85 Percent (E0-E85).
UL 79B | Standard for Power-Operated Pumps for Diesel Fuel, Biodiesel Fuel, Diesel/Biodiesel Blends with Nominal Biodiesel Concentrations up to 20 Percent (B20), Kerosene, and Fuel Oil.
UL 87A | Standard for Power-Operated Dispensing Devices for Gasoline and Gasoline/Ethanol Blends with Nominal Ethanol Concentrations up to 85 Percent (E0-E85).
UL 87B | Power-Operated Dispensing Devices for Diesel Fuel, Biodiesel Fuel, Diesel/Biodiesel Blends with Nominal Biodiesel Concentrations up to 20 Percent (B20), Kerosene, and Fuel Oil.
UL 486F | Bare and Covered Ferrules.
UL 567A | Standard for Emergency Breakaway Fittings, Swivel Connectors and Pipe-Connection Fittings for Gasoline and Gasoline/Ethanol Blends with Nominal Ethanol Concentrations up to 85 Percent (E0-E85).
UL 567B | Standard for Emergency Breakaway Fittings, Swivel Connectors and Pipe-Connection Fittings for Diesel Fuel, Biodiesel Fuel, Diesel/Biodiesel Blends with Nominal Biodiesel Concentrations up to 20 Percent (B20), Kerosene, and Fuel Oil.
UL 842A | Standard for Valves for Gasoline and Gasoline/Ethanol Blends with Nominal Ethanol Concentrations up to 85 Percent (E0-E85).
UL 842B | Standard for Valves for Diesel Fuel, Biodiesel Fuel, Diesel/Biodiesel Blends with Nominal Biodiesel Concentrations up to 20 Percent (B20), Kerosene, and Fuel Oil.
UL 1973 | Standard for Batters for Use in Light Electric Rail (LER) Applications and Stationary Applications.
UL 2054 | Standard for Household and Commercial Batteries.
UL 2271 | Standard for Batteries for Use in Light Electric Vehicle (LEV) Applications.
UL 2586A | Standard for Hose Nozzle Valves for Gasoline and Gasoline/Ethanol Blends with Nominal Ethanol Concentrations up to 85 Percent (E0-E85).
UL 2586B | Standard for Hose Nozzle Valves for Diesel Fuel, Biodiesel Fuel, Diesel/Biodiesel Blends with Nominal Biodiesel Concentrations up to 20 Percent (B20), Kerosene, and Fuel Oil.
UL 2775 | Standard for Fixed Condensed Aerosol Extinguishing System Units.
UL 4703 | Standard for Photovoltaic Wire.
UL 8753 | Standard for Field-Replaceable Light Emitting Diode (LED) Light Engines.
UL 60730-2-5 | Automatic Electrical Controls for Household and Similar Use, Part 2-5: Particular Requirements for Automatic Electrical Burner Control Systems.
UL 60947-5-1 | Low-Voltage Switchgear and Controlgear—Part 5-1: Control Circuit Devices and Switching Elements—Electromechanical Control Circuit Devices.

OSHA's recognition of any NRTL for a particular test standard is limited to equipment or materials for which OSHA standards require third-party testing and certification before use in the workplace. Consequently, if a test standard also covers any products for which OSHA does not require such testing and certification, a NRTL's scope of recognition does not include these products.

The American National Standards Institute (ANSI) may approve the test standards listed above as American National Standards. However, for convenience, the use of the designation of the standards-developing organization for the standard as opposed to the ANSI designation may occur. Under the NRTL Program's policy (see OSHA Instruction CPL 1-0.3, Appendix C, paragraph XIV), any NRTL recognized for a particular test standard may use either the proprietary version of the test standard or the ANSI version of that standard. Contact ANSI to determine whether a test standard is currently ANSI-approved.

A. Conditions

In addition to those conditions already required by 29 CFR 1910.7, UL must abide by the following conditions of the recognition:

1. UL must inform OSHA as soon as possible, in writing, of any change of ownership, facilities, or key personnel, and of any major change in its operations as a NRTL, and provide details of the change(s);

2. UL must meet all the terms of its recognition and comply with all OSHA policies pertaining to this recognition; and

3. UL must continue to meet the requirements for recognition, including all previously published conditions on UL's scope of recognition, in all areas for which it has recognition.

Pursuant to the authority in 29 CFR 1910.7, OSHA hereby expands the scope of recognition of UL, subject to the limitation and conditions specified above.

Authority and Signature

Loren Sweatt, Deputy Assistant Secretary of Labor for Occupational Safety and Health, authorized the preparation of this notice. Accordingly, the Agency is issuing this notice pursuant to 29 U.S.C. 657(g)(2), Secretary of Labor's Order No. 1-2012 (77 FR 3912, Jan. 25, 2012), and 29 CFR 1910.7.

Signed at Washington, DC, on September 24, 2018.
Loren Sweatt,
Deputy Assistant Secretary of Labor for Occupational Safety and Health.

[FR Doc. 2018-21158 Filed 9-27-18; 8:45 am]

BILLING CODE 4510-26-P